SOCIAL SECURITY ADMINISTRATION

[Docket No. SSA-2015-0056]

Privacy Act of 1974; System of Records

AGENCY: Deputy Commissioner of Human Resources, Social Security Administration (SSA).

ACTION: Notice of a modified system of records.

SUMMARY: In accordance with the Privacy Act, we are issuing public notice of our intent to modify an existing system of records, the Anti-Harassment & Hostile Work Environment Case Tracking and Records System (60-0380), last published on December 2, 2016. This notice publishes details of the modified system as set forth under the caption, SUPPLEMENTARY INFORMATION.

DATES: The system of records notice (SORN) is applicable upon its publication in today's Federal Register, with the exception of the routine uses, which are effective August 26, 2020. We invite public comment on the routine uses or other aspects of this SORN. In accordance with 5 U.S.C. 552a(e)(4) and (e)(11), the public is given a 30-day period in which to submit comments. Therefore, please submit any comments by August 26, 2020.

ADDRESSES: The public, Office of Management and Budget (OMB), and Congress may comment on this publication by writing to the Executive Director, Office of Privacy and Disclosure, Office of the General Counsel, SSA, Room G-401 West High Rise, 6401 Security Boulevard, Baltimore, Maryland 21235-6401, or through the Federal e-Rulemaking Portal at http://www.regulations.gov, please reference docket number SSA-2015-0056. All comments we receive will be available for public inspection at the above address and we will post them to http://www.regulations.gov.

FOR FURTHER INFORMATION CONTACT: Navdeep Sarai, Government Information Specialist, Privacy Implementation Division, Office of Privacy and Disclosure, Office of the General Counsel, SSA, Room G-401 West High Rise, 6401 Security Boulevard, Baltimore, Maryland 21235-6401, telephone: (410) 966-5855, email: Navdeep.Sarai@ssa.gov.

SUPPLEMENTARY INFORMATION: We are modifying the system manager section to include contact information per OMB Circular A-108, Federal Agency Responsibilities for Review, Reporting, and Publication under the Privacy Act. We are modifying the policies and practices for retention and disposal of records section to include the National Archives and Records Administration (NARA) General Records Schedule (GRS) 2.3 Employee Relations Records, Item 041, Anti-Harassment Complaint Case Files. We are modifying the policies and practices for retrieval of records section to include the names of alleging victims, which could be SSA employees, contractors, volunteers or others performing services for the agency as authorized by law, Harassment Prevention Officers (HPO), or Deciding Management Officials (DMO). We are modifying the purpose(s) of the system to clarify the scope of allegations covered by this system. We are revising routine use No. 4 and adding routine use No. 14, in accordance with OMB Memorandum 17-12, Preparing for and Responding to a Breach of Personally Identifiable Information, which we previously published on November 11, 2018 at 83 FR 54969. Lastly, we are modifying this notice throughout to correct miscellaneous stylistic formatting and typographical errors of the previously published notice, and to ensure the language reads consistently across multiple systems. We are republishing the entire notice for ease of reference.

In accordance with 5 U.S.C. 552a(r), we provided a report to OMB and Congress on this new system of records.

Matthew Ramsey,
Executive Director, Office of Privacy and Disclosure, Office of the General Counsel.

SYSTEM NAME AND NUMBER:

Anti-Harassment & Hostile Work Environment Case Tracking and Records System, 60-0380.

SECURITY CLASSIFICATION:

Unclassified.

SYSTEM LOCATION:

Social Security Administration, Deputy Commissioner of Human Resources, Office of Labor Management and Employee Relations, 6401 Security Boulevard, Baltimore, MD 21235.

SYSTEM MANAGER(S):

Social Security Administration, Deputy Commissioner of Human Resources, Office of Labor Management and Employee Relations, 6401 Security Boulevard, Baltimore, MD 21235, 410-965-5855.

AUTHORITY FOR MAINTENANCE OF THE SYSTEM:

Title VII of the Civil Rights Act of 1964, 42 U.S.C. 2000e, et seq.; Age Discrimination in Employment Act of 1967, 29 U.S.C. 621, et seq.; The Americans with Disabilities Act of 1990 (ADA), 42 U.S.C. 12101, et seq.; The ADA Amendments Act of 2008; The Rehabilitation Act of 1973 (Section 501), 29 U.S.C. 791; The Notification and Federal Employee Antidiscrimination and Retaliation Act of 2002 (No FEAR Act), Public Law 107-174; Genetic Information Nondiscrimination Act of 2008 (GINA), Public Law 110-233; Executive Order 13087, Executive Order 13152, and further amendments to Executive Order 11478 and Executive Order 11246; and Equal Employment Opportunity Commission Enforcement Guidance: Vicarious Employer Liability for Unlawful Harassment by Supervisors, Notice 915.002, V.C.1 (June 18, 1999).

PURPOSE(S) OF THE SYSTEM:

SSA takes seriously its obligation to maintain a work environment free from discrimination, including harassment. Managers and employees are responsible for preventing harassment from occurring and stopping harassment before it becomes severe or pervasive. The agency takes seriously all allegations of workplace harassment, and conducts prompt, thorough, and impartial investigations into allegations of harassment. The Anti-Harassment System captures and houses information regarding allegations of workplace harassment filed by SSA employees, contractors, or volunteers and others performing services for the agency as authorized by law alleging harassment by another SSA employee and any investigation and/or response taken as a result of the allegation. The Anti-Harassment System also captures and houses information regarding allegations of workplace harassment filed by SSA employees alleging harassment by SSA contractors, or volunteers and others performing services for the agency as authorized by law and any investigation and/or response taken as a result of the allegation. Other allegations between individuals covered by this system may be captured and housed on a case-by-case basis.

CATEGORIES OF INDIVIDUALS COVERED BY THE SYSTEM:

SSA employees, contractors, or volunteers and others performing services for the agency as authorized by law who report allegations of workplace harassment to the Office of Civil Rights and Equal Opportunity (OCREO) or to management; SSA employees, contractors, or volunteers and others performing services for the agency as authorized by law against whom allegations of workplace harassment have been reported to OCREO or to management; and SSA HPOs, investigators, and DMOs who conduct program business or inquiries relative to reports of alleged workplace harassment.

CATEGORIES OF RECORDS IN THE SYSTEM:

This system maintains information collected or generated in response to an allegation of workplace harassment, which may include allegations of workplace harassment; information generated during fact-finding investigations; and other records related to the investigation, and/or response taken as a result of the allegation.

RECORD SOURCE CATEGORIES:

We obtain information in this system from alleged victims and harassers, witnesses, members of the public, law enforcement officers of other Federal agencies, and other individuals involved with the allegation. Some information, such as the alleged victim's or harasser's name, personal identification number (PIN), employee identification number, position, and job location is pre-populated in the system by using information contained in our Human Resource Operational Data Store system.

ROUTINE USES OF RECORDS MAINTAINED IN THE SYSTEM, INCLUDING CATEGORIES OF USERS AND THE PURPOSES OF SUCH USES:

We will disclose records pursuant to the following routine uses, however, we will not disclose any information defined as “return or return information” under 26 U.S.C. 6103 of the Internal Revenue Code, unless authorized by statute, the Internal Revenue Service (IRS), or IRS regulations.

1. To a congressional office in response to an inquiry from that office made on behalf of, and at the request of, the subject of the record or third party acting on the subject's behalf.

2. To the Department of Justice (DOJ), a court or other tribunal, or another party before such court or tribunal, when:

(a) SSA, or any component thereof; or

(b) any SSA employee in his or her official capacity; or

(c) any SSA employee in his or her individual capacity where DOJ (or SSA, where it is authorized to do so) has agreed to represent the employee; or

(d) the United States or any agency thereof where SSA determines the litigation is likely to affect SSA or any of its components, is a party to the litigation or has an interest in such litigation, and SSA determines that the use of such records by DOJ, a court or other tribunal, or another party before the tribunal is relevant and necessary to the litigation, provided, however, that in each case, the agency determines that disclosures of the records to DOJ, court or other tribunal, or another party is a use of the information contained in the records that is compatible with the purpose for which the records were collected.

3. To the National Archives and Records Administration (NARA) under 44 U.S.C. 2904 and 2906.

4. To appropriate agencies, entities, and persons when:

(a) SSA suspects or has confirmed that there has been a breach of the system of records;

(b) SSA has determined that as a result of the suspected or confirmed breach, there is a risk of harm to individuals, SSA (including its information systems, programs, and operations), the Federal Government, or national security; and

(c) the disclosure made to such agencies, entities, and persons is reasonably necessary to assist in connections with SSA's efforts to respond to the suspected or confirmed breach or to prevent, minimize, or remedy such harm.

5. To the Office of the President in response to an inquiry from that office made on behalf of, and at the request of, the subject of the record or a third party acting on the subject's behalf.

6. To contractors and other Federal agencies, as necessary, for the purpose of assisting SSA in the efficient administration of its programs. We disclose information under this routine use only in situations in which SSA may enter into a contractual or similar agreement with a third party to assist in accomplishing an agency function relating to this system of records.

7. To student volunteers, individuals working under a personal services contract, and other workers who technically do not have the status of Federal employees when they are performing work for SSA, as authorized by law, and they need access to personally identifiable information (PII) in SSA records in order to perform their assigned agency functions.

8. To any agency, person, or entity in the course of an investigation to the extent necessary to obtain information pertinent to the investigation.

9. To the alleged victim or harasser, or their representatives, the minimal information necessary to provide the status or the results of the investigation or case involving them.

10. To the Office of Personnel Management or the Merit Systems Protection Board (including the Office of Special Counsel) when information is requested in connection with appeals, special studies of the civil service and other merit systems, review of those agencies' rules and regulations, investigation of alleged or possible prohibited personnel practices, and for such other functions of these agencies as may be authorized by law, e.g., 5 U.S.C. 1205 and 1206.

11. To the Equal Employment Opportunity Commission when requested in connection with investigations into alleged or possible discriminatory practices in the Federal sector, examination of Federal affirmative employment programs, compliance by Federal agencies with Uniformed Guidelines on Employee Selection Procedures, or other functions vested in the Commission.

12. To officials of labor organizations recognized under 5 U.S.C. chapter 71 when relevant and necessary to their duties of exclusive representation concerning personnel policies, practices, and matters affecting conditions of employment.

13. To Federal, State and local law enforcement agencies and private security contractors, as appropriate, information necessary:

(a) To enable them to protect the safety of SSA employees and customers, the security of the SSA workplace, the operation of SSA facilities, or

(b) to assist investigations or prosecutions with respect to activities that affect such safety and security or activities that disrupt the operations of SSA facilities.

14. To another Federal agency or Federal entity, when SSA determines that information from this system of records is reasonably necessary to assist the recipient agency or entity in:

(a) Responding to a suspected or confirmed breach; or

(b) preventing, minimizing, or remedying the risk of harm to individuals, the recipient agency or entity (including its information systems, programs, and operations), the Federal Government, or national security, resulting from a suspected or confirmed breach.

POLICIES AND PRACTICES FOR STORAGE OF RECORDS:

We will maintain records in this system in paper and electronic form.

POLICIES AND PRACTICES FOR RETRIEVAL OF RECORDS:

We will retrieve records by the name of the alleging victim (which could be SSA employees, contractors, or volunteers and others performing services for the agency as authorized by law), the name of the alleged harasser, the name of the HPO, the name of the DMO, and unique case identifiers.

POLICIES AND PRACTICES FOR RETENTION AND DISPOSAL OF RECORDS:

In accordance with NARA rules codified at 36 CFR 1225.16, we maintain records in accordance with the approved NARA GRS 2.3 Employee Relations Records, Item 041 Anti-Harassment Complaint Case Files. See https://www.archives.gov/files/records-mgmt/grs/grs02-3.pdf.

ADMINISTRATIVE, TECHNICAL, AND PHYSICAL SAFEGUARDS:

We retain electronic and paper files with personal identifiers in secure storage areas accessible only by our authorized employees and contractors who have a need for the information when performing their official duties. Security measures include the use of codes and profiles, PIN and password, and personal identification verification cards. We further restrict the electronic records by the use of the PIN for only those employees who are authorized to access the system. We keep paper records in locked cabinets within secure areas, with access limited to only those employees who have an official need for access in order to perform their duties.

We annually provide our employees and contractors with appropriate security awareness training that includes reminders about the need to protect PII and the criminal penalties that apply to unauthorized access to, or disclosure of, PII (e.g., 5 U.S.C. 552a(i)(1)). Furthermore, employees and contractors with access to databases maintaining PII must sign a sanctions document annually, acknowledging their accountability for inappropriately accessing or disclosing such information.

RECORD ACCESS PROCEDURES:

Individuals may submit requests for information about whether this system contains a record about them by submitting a written request to the system manager at the above address, which includes their name, Social Security number (SSN), or other information that may be in this system of records that will identify them. Individuals requesting notification of, or access to, a record by mail must include (1) a notarized statement to us to verify their identity or (2) must certify in the request that they are the individual they claim to be and that they understand that the knowing and willful request for, or acquisition of, a record pertaining to another individual under false pretenses is a criminal offense.

Individuals requesting notification of, or access to, records in person must provide their name, SSN, or other information that may be in this system of records that will identify them, as well as provide an identity document, preferably with a photograph, such as a driver's license. Individuals lacking identification documents sufficient to establish their identity must certify in writing that they are the individual they claim to be and that they understand that the knowing and willful request for, or acquisition of, a record pertaining to another individual under false pretenses is a criminal offense.

These procedures are in accordance with our regulations at 20 CFR 401.40 and 401.45.

CONTESTING RECORD PROCEDURES:

Same as record access procedures. Individuals should also reasonably identify the record, specify the information they are contesting, and state the corrective action sought and the reason(s) for the correction with supporting justification showing how the record is incomplete, untimely, inaccurate, or irrelevant. These procedures are in accordance with our regulations at 20 CFR 401.65(a).

NOTIFICATION PROCEDURES:

Same as record access procedures. These procedures are in accordance with our regulations at 20 CFR 401.40 and 401.45.

EXEMPTIONS PROMULGATED FOR THE SYSTEM:

This system of records has been exempted from certain provisions of the Privacy Act pursuant to 5 U.S.C. 552a(k)(2). Rules have been promulgated in accordance with the requirements of 5 U.S.C. 553(b), (c), and (e) and have been published in the Federal Register (FR Doc. 2016-290335 Filed 12-1-16; 8:45 a.m.).

HISTORY:

81 FR 87119, Anti-Harassment & Hostile Work Environment Case Tracking and Records System; 83 FR 54969, Anti-Harassment & Hostile Work Environment Case Tracking and Records System.

[FR Doc. 2020-16143 Filed 7-24-20; 8:45 am]

BILLING CODE 4191-02-P